ENVIRONMENTAL PROTECTION AGENCY

[FRL-7000-5]

Notice of Proposed CERCLA Administrative Settlement—Rocky Flats Industrial Park Site, Jefferson County, Colorado

AGENCY: Environmental Protection Agency.

ACTION: Notice and Request for Public Comment.

SUMMARY: In accordance with the requirements of section 122(i) of the Comprehensive Environmental Response, Compensation, and Liability Act, as amended (“CERCLA”), 42 U.S.C. 9622(i), notice is hereby given of the proposed administrative settlement under section 122(h) of CERCLA, 42 U.S.C. 9622(h), concerning the Rocky Flats Industrial Park site located in the 17,000 block of Colorado Highway 72, approximately two miles east of the intersection of Colorado Highways 93 and 72, in Section 23, T2N, R70W in unincorporated Jefferson County, Colorado (the “Site”).

DATES: Comments must be submitted on or before July 25, 2001.

ADDRESSES: The proposed settlement and additional background information relating to the settlement are available for public inspection at the EPA Superfund Record Center, 999 18th Street, 5th Floor, in Denver, Colorado. Comments and requests for a copy of the proposed settlement should be addressed to Carol Pokorny (8ENF-T), Technical Enforcement Program, U.S. Environmental Protection Agency, 999 18th Street, Suite 300, Denver, Colorado 80202-2466, and should reference the Rocky Flats Industrial Park Site, Jefferson County, Colorado and the EPA docket number of the proposed settlement. The docket number for the proposed settlement with Interstate Land Corporation and Union Pacific Corporation is EPA Docket No. CERCLA-8-2001-07.

FOR FURTHER INFORMATION CONTACT: Carol Pokorny, Enforcement Specialist (8ENF-T), Technical Enforcement Program, U.S. Environmental Protection Agency, 999 18th Street, Suite 300, Denver, Colorado 80202-2466, (303) 312-6970.

SUPPLEMENTARY INFORMATION:

Administrative Settlement Agreement

This settlement between the United States Environmental Protection Agency (“EPA”) and Interstate Land Corporation (successor to Entrada Industries, Inc.) and Union Pacific Corporation (successor to Denver and Rio Grande Western Railroad Company) is embodied in a CERCLA section 122(h) Administrative Settlement Agreement (“Administrative Settlement”). The Administrative Settlement resolves the settling parties' liability at the Site for past work, past response costs and specified future work and response costs through a covenant not to sue under sections 106 and 107 of CERCLA, 42 U.S.C. 9606 and 9607, and section 7003 of RCRA, 42 U.S.C. 6973. The proposed Administrative Settlement requires the settling parties to pay an aggregate total of $20,000.00. By the terms of the proposed Administrative Settlement, the Interstate Land Corporation will pay $15,000.00 and Union Pacific Corporation will pay $5,000.00 to the Hazardous Substance Superfund. The money will be deposited into a special account which can be used to pay for future work at the Site. In addition to the financial contributions to be made pursuant to the Administrative Settlement, the settling parties have participated in past investigation and cleanup activities at the Site.

Opportunity for Comment

For thirty (30) days following the date of publication of this notice, the Agency will consider all comments received and may modify or withdraw its consent to the settlement if comments received disclose facts or considerations which indicate that the settlement is inappropriate, improper, or inadequate. The Agency's response to any comments received will be available for public inspection at the EPA Superfund Record Center, 999 18th Street, 5th Floor, in Denver, Colorado. Commenters may request an opportunity for a public meeting in the affected area in accordance with section 7003(d) of RCRA, 42 U.S.C. 6973(d).

It Is So Agreed.
Dated: June 12, 2001.
Carol Rushin,
Assistant Regional Administrator, Office of Enforcement, Compliance, and Environmental Justice, U.S. Environmental Protection Agency, Region VIII.

[FR Doc. 01-15885 Filed 6-22-01; 8:45 am]

BILLING CODE 6560-50-P